DEPARTMENT OF COMMERCE

National Oceanic and Atmospheric Administration

50 CFR Part 622

[Docket No. 071025620-9075-01]

RIN 0648-AW19

Fisheries of the Caribbean, Gulf of Mexico, and South Atlantic; Shrimp Fishery off the Southern Atlantic States; Amendment 7

AGENCY: National Marine Fisheries Service (NMFS), National Oceanic and Atmospheric Administration (NOAA), Commerce.

ACTION: Proposed rule; request for comments.

SUMMARY: NMFS issues this proposed rule to implement Amendment 7 to the Fishery Management Plan for the Shrimp Fishery of the South Atlantic Region (FMP), as prepared and submitted by the South Atlantic Fishery Management Council (Council). For South Atlantic rock shrimp, this proposed rule would rename the rock shrimp permit and endorsement; require all South Atlantic shrimp permit holders to provide economic data if selected; reinstate all limited access rock shrimp endorsements for those vessel owners who renewed their open access permit in the year in which they failed to renew their limited access endorsement; remove the 15,000-lb (6,804-kg) rock shrimp landing requirement; and reinstate all limited access rock shrimp endorsements lost due to not meeting the landing requirement.

DATES: Written comments on this proposed rule must be received no later than 5 p.m., Eastern time, on July 24, 2009.

ADDRESSES: You may submit comments on the proposed rule, identified by “0648-AW19”, by any one of the following methods:

• Electronic Submissions: Submit all electronic public comments via the Federal eRulemaking Portal http://www.regulations.gov.

• Fax: 727-824-5308, Attn: Kate Michie.

• Mail: Kate Michie, Southeast Regional Office, NMFS, 263 13th Avenue South, St. Petersburg, FL 33701.

Instructions: All comments received are a part of the public record and will generally be posted to http://www.regulations.gov without change. All Personal Identifying Information (for example, name, address, etc.) voluntarily submitted by the commenter may be publicly accessible. Do not submit Confidential Business Information or otherwise sensitive or protected information.

To submit comments through the Federal e-Rulemaking Portal: http://www.regulations.gov, enter “NOAA-NMFS-2008-0319” in the keyword search, then check the box labeled “Select to find documents accepting comments or submissions”, then select “Send a Comment or Submission.” NMFS will accept anonymous comments (enter N/A in the required fields, if you wish to remain anonymous). Attachments to electronic comments will be accepted in Microsoft Word, Excel, WordPerfect, or Adobe PDF file formats only.

Copies of Amendment 7 may be obtained from the South Atlantic Fishery Management Council, 4055 Faber Place, Suite 201, North Charleston, SC 29405; phone: 843-571-4366 or 866-SAFMC-10 (toll free); fax: 843-769-4520; e-mail: safmc@safmc.net. Amendment 7 includes an Environmental Assessment, an Initial Regulatory Flexibility Analysis (IRFA), a Regulatory Impact Review, and a Social Impact Assessment/Fishery Impact Statement.

Comments regarding the burden-hour estimates or other aspects of the collection-of-information requirements contained in this proposed rule may be submitted in writing to Jason Rueter, Southeast Regional Office, NMFS, and to David Rostker, OMB, by e-mail at David_Rostker@omb.eop.gov, or by fax to 202-395-7285.

FOR FURTHER INFORMATION CONTACT: Kate Michie, telephone: 727-824-5305, fax: 727-824-5308.

SUPPLEMENTARY INFORMATION: The shrimp fishery off the southern Atlantic states is managed under the FMP. The FMP was prepared by the Council and is implemented under the authority of the Magnuson-Stevens Fishery Conservation and Management Act (Magnuson-Stevens Act) by regulations at 50 CFR part 622.

According to the Deepwater Shrimp Advisory Panel (AP), the rock shrimp fishery has changed substantially since the limited access endorsements were first required. The fleet dynamics have changed due to economic factors including fluctuating fuel prices and operating expenses, and imported shrimp products. To address issues raised by the AP, the Council developed Amendment 7 to the FMP.

Rename Permits and Endorsements

Currently, a “commercial vessel permit for rock shrimp” is required to fish in the exclusive economic zone (EEZ) off North Carolina and off South Carolina. A vessel with that permit and a “limited access endorsement for South Atlantic rock shrimp” may fish in the EEZ off those states and off Georgia and Florida. This terminology has been confusing and may have led to some limited access endorsements being terminated because they were not renewed in a timely manner. This rule would rename the current limited access endorsement as “Rock Shrimp Permit (South Atlantic EEZ)”, which would allow fishing throughout the South Atlantic EEZ and would be available only to those vessels initially issued endorsements for the fishery, or their successor. The rule would also rename the current rock shrimp permit as “Rock Shrimp Permit (Carolinas Zone)”, which would allow fishing for rock shrimp in the EEZ off North Carolina and South Carolina.

During an implementation period of from 2 to 3 months, the Regional Administrator, Southeast Region, NMFS, (RA) would replace a currently valid permit or endorsement with the appropriate new permit without the necessity of an application from a vessel owner. However, a renewal application would be required for a permit or endorsement that expired during the implementation period. Such renewal would be for the appropriate new permit. No transfers of existing endorsements would be allowed after the date that is 30 days after the effective date of the final rule implementing Amendment 7. After the implementation period, the old permits and endorsements would not be valid, and transfers of the new permit would be allowed according to the regulations.

Economic Data Collection

A need exists to acquire economic data from shrimp permit holders off the southern Atlantic states. Such data would allow NMFS to conduct the analyses required by the Magnuson-Stevens Act and other applicable law and assist the Council to fully understand how proposed management measures would impact shrimp fishermen and dealers. Accordingly, this rule would require owners or operators of vessels participating in the South Atlantic rock shrimp and penaeid shrimp fisheries, who are selected by NMFS, to provide basic economic data via an annual survey form. This information would include, but not be limited to, such information as vessel identification, gear, effort, amount of shrimp caught by species, shrimp condition (heads on or off), fishing areas, person to whom shrimp were sold, and variable and fixed costs.

Renewal in a Timely Manner

Current regulations specify that the RA will not reissue a limited access endorsement for South Atlantic rock shrimp if the RA does not receive a complete application for renewal within 1 year after the endorsement's expiration date. Indications are that a number of individuals did not renew their endorsements when they renewed their rock shrimp permits because they did not understand that both the endorsement and the permit had to be renewed. This proposed rule would reinstate all limited access endorsements, as a Rock Shrimp Permit (South Atlantic EEZ), for those vessel owners who renewed their open access permit in the year in which they failed to renew their limited access endorsement. The rule would also require vessel owners eligible to have their limited access endorsements reinstated to apply for a Rock Shrimp Permit (South Atlantic EEZ) within one year after the effective date of the final rule for this amendment.

Eliminating the Rock Shrimp Landing Requirement

Currently, a limited access endorsement for South Atlantic rock shrimp that is inactive for a period of four consecutive calendar years will not be renewed. “Inactive” means that the vessel with the endorsement has not landed at least 15,000 lb (6,804 kg) of rock shrimp from the South Atlantic EEZ in a calendar year. The Council is concerned that maintaining the current landing requirement will result in a permanent, significant, and unnecessary reduction in the South Atlantic rock shrimp fleet size. Reduction of effort is not biologically required as current catches are far below the maximum fishing mortality threshold. Accordingly, this rule would remove the 15,000-lb (6,804-kg) landing requirement.

Reinstatement of Lost Endorsements

All endorsements lost due to not meeting the 15,000-lb landing requirement would be reinstated. The amendment states the vessels of particular concern are those that initially obtained their limited access rock shrimp endorsements in 2003 as they would have needed to land at least 15,000 lbs of rock shrimp in at least one calender year between 2004 and 2007.

Availability of Amendment 7

Additional background and rationale for the measures discussed above are contained in Amendment 7 and its supporting EA. The availability of Amendment 7 was announced in the Federal Register on June 1, 2009 (74 FR 26170). Written comments on Amendment 7 must be received by July 31, 2009. All comments received on Amendment 7 or on this proposed rule during their respective comment periods will be addressed in the preamble of the final rule.

Classification

Pursuant to section 304(b)(1)(A) of the Magnuson-Stevens Act, the AA has determined that this proposed rule is consistent with Amendment 7, other provisions of the Magnuson-Stevens Act, and other applicable law, subject to further consideration after public comment.

This proposed rule has been determined to be not significant for purposes of Executive Order 12866.

NMFS prepared an IRFA, as required by section 603 of the Regulatory Flexibility Act, for this proposed rule. The IRFA describes the economic impact this proposed rule, if adopted, would have on small entities. A description of the action, why it is being considered, and the objectives of, and legal basis for this action are contained at the beginning of this section in the preamble and in the SUMMARY section of the preamble. A copy of the full analysis is available from the Council (see ADDRESSES). A summary of the IRFA follows.

The Magnuson-Stevens Act provides the statutory basis for the proposed rule. The proposed rule would rename the rock shrimp permit and endorsement, require all South Atlantic shrimp permit holders to provide economic data if selected, reinstate all limited access rock shrimp endorsements for those vessel owners who renewed their open access permit in the year in which they failed to renew their limited access endorsement, remove the 15,000-lb (6,804-kg) rock shrimp landing requirement, and reinstate all limited access rock shrimp endorsements lost due to not meeting the landing requirement. The purposes of this proposed rule are to ensure that sufficient effort remains active to sustain the fishery and its infrastructure and the Council has necessary economic data to satisfy requirements under the Magnuson-Stevens Act and other statutes.

No duplicative, overlapping or conflicting Federal rules have been identified.

Within the South Atlantic shrimp fisheries, vessels may possess one or more of the following Federal permits: a penaeid shrimp permit, an open access rock shrimp permit, and a limited access rock shrimp endorsement. At present, 266 open access rock shrimp permits, 620 penaeid shrimp permits, and 155 limited access rock shrimp endorsements have been issued. Of the 155 limited access rock shrimp endorsements, 125 are currently active or renewable and 30 have been terminated. The total number of vessels that possess one or more of these permits or endorsements is 694 and thus this is the maximum number of vessels that could be directly impacted by the actions considered in this proposed rule. Of these 694 vessels, 293 vessels also possess Gulf shrimp moratorium permits and therefore only 401 vessels are unique to the South Atlantic shrimp fisheries.

The fleet of vessels with limited access rock shrimp endorsements is fairly homogeneous with respect to its physical characteristics. The average or typical vessel in this fleet is approximately 20 years old, nearly 73 ft (22.3 m) in length, gross tonnage of 132 tons, with a fuel capacity of approximately 16,000 gallons (60,567 liters), and a hold capacity of more than 63,000 lb (28,576 kg) of shrimp. The average vessel typically uses four nets averaging between 55 and 60 ft (17.2-18.3 m) in length and uses between three and four crew on each trip. More than 90 percent of these vessels are large (60 ft (18.3 m) in length or greater) while less than 9 percent are small (less than 60 ft (18.3 m) in length). More than 87 percent of these vessels have on-board freezing capacity. More than two-thirds of these vessels have steel hulls, while the other vessels are nearly equally split between fiberglass and wood hulls.

Of the 155 vessels with limited access rock shrimp endorsements, 145 were commercially fishing at some point between 2003 and 2007 and thus 10 vessels with endorsements were not commercially active during these years. All of the commercially inactive vessels are in fact state registered boats that are older, smaller, and less powerful than the average vessel in the fleet. Between 2003 and 2007, commercially active vessels with endorsements averaged nearly $284,000 in total revenue per year.

These vessels' dependence on landings from the South Atlantic rock shrimp fishery was relatively low as, on average, they only accounted for seven percent of total revenue during this time. These vessels were most dependent on revenue from the Gulf shrimp fishery, which, on average, accounted for nearly 46 percent of their total revenue. Revenue from South Atlantic penaeid shrimp landings and Northeast non-shrimp landings were also important, with each representing approximately 22 percent of their total revenue on average. The vast majority of the Northeast non-shrimp revenue came from Atlantic sea scallop landings. Thus, although South Atlantic rock shrimp landings were not unimportant to these vessels' operations, they were considerably more dependent on other fisheries.

The fleet of 694 vessels that possess one or more South Atlantic shrimp permits or endorsements is very heterogeneous with respect to its physical characteristics. For example, approximately 65 percent of the vessels are large while 35 percent are small. Less than 40 percent have on-board freezing capacity while nearly 60 percent rely on ice for storage purposes. With respect to their hulls, the fleet is approximately evenly split between steel, wood, and fiberglass. On average, this group of vessels is somewhat smaller, older, less technologically advanced and uses less crew and gear relative to vessels that only possess limited access rock shrimp endorsements. Related, between 2003 and 2007, the average total revenue per vessel was $185,000, or 35 percent less than vessels that only possess a limited access rock shrimp endorsement. Further, revenue from the Gulf shrimp, Northeast non-shrimp, and South Atlantic penaeid shrimp fisheries have accounted for 36 percent, 31 percent and 24 percent of total revenues on average during this time. During this time period, the maximum total revenue for a single vessel was approximately $3.7 million.

With respect to the 401 vessels that possess one or more South Atlantic shrimp permits or endorsements and do not possess a Gulf shrimp moratorium permit, they are also fairly heterogeneous with respect to their physical characteristics. However, on average, they are smaller, older, less technologically advanced and use less crew and gear than the fleet as a whole, and even more so compared to the vessels that only possess a limited access rock shrimp endorsement. For example, nearly 56 percent of these vessels are small, only 10 percent have on-board freezing capacity, and less than 18 percent have steel hulls. Related, between 2003 and 2007, the average total revenue per vessel was only about $135,000, or 27 percent less than the fleet as a whole and 53 percent less than vessels that only possess a limited access rock shrimp endorsement. Since these vessels do not possess a Gulf shrimp moratorium permit and thus cannot participate in the Federal Gulf shrimp fishery, approximately 40 percent of their total revenue comes from both the South Atlantic shrimp and Northeast non-shrimp fisheries respectively, with 15 percent coming from South Atlantic non-shrimp fisheries.

The Small Business Administration defines a small business in the commercial fishing industry as an entity that is independently owned and operated, is not dominant in its field of operation (including its affiliates), and has combined annual receipts not in excess of $4.0 million annually (NAICS codes 114111 and 114112, finfish and shellfish fishing). Based on the annual revenues for the fishery provided above, all shrimp vessels expected to be directly impacted by this proposed rule are determined, for the purpose of this analysis, to be small entities.

The action to remove the 15,000-lb (6,804-kg) landing requirement will directly affect 27 vessels with active or renewable endorsements, the action to reinstate limited access rock shrimp endorsements lost due to not meeting the landing requirement will directly affect 43 vessels with active or renewable endorsements, the action to reinstate limited access rock shrimp endorsements for those vessel owners who renewed their open access permit in the year in which they failed to renew their limited access endorsement will directly affect 5 vessels with terminated endorsements, and the action to rename the rock shrimp permit and endorsement will directly affect all 125 vessels with active or renewable endorsements and 5 vessels with terminated endorsements. In general, the action to require all South Atlantic shrimp permit holders to provide economic data if selected would apply to all 694 vessels with a South Atlantic penaeid or rock shrimp permit or endorsement. However, since 293 of these vessels possess a Gulf shrimp moratorium permit and therefore must already comply with economic data reporting requirements in that fishery, only 401 vessels will be directly affected by this action. Thus, NMFS determines that this proposed rule will affect a substantial number of small entities.

The action to remove the 15,000-lb (6,804-kg) landing requirement is expected to directly benefit at least 27 vessels by allowing them to retain their limited access rock shrimp endorsements. Under current regulations, these vessels would be expected to lose their endorsements. By retaining their endorsements, these vessels are able to retain the market value of their endorsements, which is estimated to be $5,000. Further, they will retain their ability to participate in the fishery, which in the short term is expected to increase these vessels' average total revenue by only $600 per vessel but could be greater in the long term if they increase their level of participation in the fishery.

The action to reinstate limited access rock shrimp endorsements lost due to not meeting the landing requirement is expected to directly benefit 43 vessels by allowing them to retain their limited access rock shrimp endorsements. Under current regulations, these vessels would lose their endorsements. By retaining their endorsements, these vessels are able to retain the market value of their endorsements, which is estimated to be $5,000. Further, they will retain their ability to participate in the fishery, which in the short term is expected to increase these vessels' average total revenue by $4,600 per vessel but could be greater in the long term if they increase their level of participation in the fishery.

The action to reinstate limited access rock shrimp endorsements for those vessel owners who renewed their open access permit in the year in which they failed to renew their limited access endorsement is expected to directly benefit five vessels by reinstating their endorsements. At present, these vessels' endorsements have been terminated and thus cannot be used to participate in the fishery and in turn have no market value. Reinstatement of these endorsements will allow these vessels to regain the market value of their endorsements, which is estimated to be $5,000. Further, they will regain their ability to participate in the fishery, which in the short term is expected to increase these vessels' average total revenue by $6,000 per vessel but could be greater in the long term if they increase their level of participation in the fishery.

The action to rename the rock shrimp permit and endorsement is expected to directly benefit 130 vessels by reducing the number of permits these vessels must possess and pay for in order to participate in the limited access rock shrimp fishery. The annual benefit is only $10 per vessel and is therefore minimal.

The action to require all South Atlantic shrimp permit holders to provide economic data if selected is expected to adversely affect 401 vessels by requiring a sample to provide economic data on an annual basis. However, this reporting requirement would only impose an annual opportunity cost of approximately $15 per vessel. Therefore, this action is not expected to increase these vessels' operating costs and, thus, would not be expected to decrease their profits.

Three alternatives, including the status quo, were considered for the action to remove the 15,000-lb (6,804-kg) rock shrimp landing requirement. The first alternative, the status quo, would retain the landing requirement. In the long term, retention of the landing requirement would be expected to significantly and permanently reduce the maximum fleet size in the rock shrimp fishery. Specifically, the maximum fleet size under this alternative would only be approximately 37 percent of the Council's desired fleet size and 44 percent of its current fleet size. Such a result would be inconsistent with the Council's objective of retaining sufficient productive capacity in the fishery in order to support the onshore infrastructure. The second alternative to the proposed removal of the landing requirement would have reduced the landing requirement from 15,000 lb (6,804 kg) in at least one out of every four calendar years to 7,500 lb (3,402 kg) in at least one out of every four calendar years. Although this represents a 50-percent reduction in the landings requirement, few additional vessels would be able to meet this requirement relative to the 15,000-lb (6,804-kg) requirement. Therefore, similar to the status quo, this alternative would result in a significant and permanent reduction in the rock shrimp fishery's long-term maximum fleet size. Specifically, the maximum fleet size under this alternative would only be approximately 39 percent of the Council's desired fleet size and 47 percent of its current fleet size. Such a result would be inconsistent with the Council's objective of retaining sufficient productive capacity in the fishery in order to support the onshore infrastructure.

Three alternatives, including the status quo, were considered for the action to reinstate endorsements lost due to not meeting the 15,000-lb (6,804-kg) rock shrimp landing requirement at the end of the 2007 calendar year. The first alternative, the status quo, would not reinstate endorsements lost due to not meeting the 15,000-lb (6,804-kg) rock shrimp landing requirement at the end of the 2007 calendar year. Of the 125 vessels currently possessing active or renewable endorsements, 83 vessels were required to meet the landing requirement by the end of the 2007 calendar year. However, 43 vessels did not meet the landing requirement and thus their endorsements are not eligible for renewal. Upon these endorsements' termination, the maximum fleet size would be permanently reduced from 125 vessels to 82 vessels. Such a significant and permanent reduction in the maximum fleet size would be inconsistent with the Council's objective of retaining sufficient productive capacity in the fishery in order to support the onshore infrastructure. The second alternative considered for this action would reinstate endorsements to vessels landing at least 7,500 lb (3,402 kg) of rock shrimp in one of four consecutive calendar years. This alternative would only allow three more vessels with active or renewable endorsements to remain in the fishery relative to the no-action alternative. Hence, this alternative did not adequately address the Council's objective.

Three alternatives, including the status quo, were considered for the action to reinstate endorsements lost through failure to renew for vessels that renewed their open access permits. The first alternative, the status quo, would not reinstate endorsements that were lost through failure to renew for vessels that renewed their open access permits. At present, an open access permit is needed to harvest rock shrimp in the EEZ off of North and South Carolina while both the open access permit and the limited access endorsement are needed to harvest rock shrimp in the EEZ off of Georgia and east Florida. Five vessels that previously possessed endorsements renewed their open access permits but failed to simultaneously renew their endorsements. By renewing their open access permits, these vessels indicated that they intended to continue participating in the fishery in the future. Their failure to renew their endorsements at the same time may have been the result of confusion over the application and renewal process associated with the open access permit and the limited access endorsement. The Council does not consider the permanent loss of these endorsements to be an equitable outcome. Further, the unintended loss of these endorsements from the fishery is inconsistent with the Council's objective of retaining sufficient productive capacity in order to support the onshore infrastructure. The second alternative would extend the time allowed to renew endorsements by one calendar year after the effective date of this action. The outcome of this alternative is uncertain as it is dependent on whether the five affected vessel owners take the proper actions, including independently determining their permit status and requesting and submitting the required forms, within the specified time period. Any vessel owners that did not would not have their vessels' endorsements reinstated, which in turn would result in an unintended and undesired reduction in the maximum fleet size and thus this alternative is also potentially inconsistent with the Council's objective of retaining sufficient productive capacity in order to support the onshore infrastructure.

Two alternatives, including the status quo, were considered for the action to rename the rock shrimp permit and endorsement. At present, an open access permit is needed to harvest rock shrimp in the EEZ off of North and South Carolina while both the open access permit and the limited access endorsement are needed to harvest rock shrimp in the EEZ off of Georgia and east Florida. Five vessels have already lost their endorsements possibly due to confusion associated with the current naming practice and more could be lost in the future. This unintended loss of additional endorsements from the fishery in the future possibly due to vessel owners' confusion with the current naming practice is inconsistent with the Council's objective of retaining sufficient productive capacity in order to support the onshore infrastructure.

Two alternatives, including the status quo, were considered for the action to specify VMS requirements for owners of vessels with limited access rock shrimp endorsements. The alternative to require VMS verification for all vessels with limited access endorsements, which would include those not operating in South Atlantic waters, could cause some vessel owners to relinquish their limited access endorsements, particularly those whose vessels are very small by industry standards and thus technologically incapable of supporting a VMS. Twenty-one vessels would be impacted by this alternative possibly resulting in additional reductions in the number of limited access endorsements. This is inconsistent with the Council's objective of retaining sufficient productive capacity in the fishery in order to support the onshore infrastructure.

Three alternatives, including the status quo, were considered for the action to require all South Atlantic shrimp permit holders to provide economic data if selected. The first alternative, the status quo, would not require South Atlantic shrimp permit holders to provide economic data. At present, economic data are lacking for the South Atlantic shrimp fisheries. The lack of such data makes it difficult for the Council to conduct regulatory impacts analyses that meet the requirements of the Magnuson-Stevens Act, National Environmental Protection Act, the Regulatory Flexibility Act, E.O. 12866, and other Federal statutes. Further, the reauthorized version of the Magnuson-Stevens Act explicitly states that all fishery management plans must indicate all economic information necessary to meet the requirements of the Act. Thus, these data are needed in order for the Council to comply with these various mandates. Furthermore, the lack of such data can lead to potentially misleading information and guidance. Such misinformation can adversely affect decisions made by the Council and NMFS and thereby lead to unforeseen and unintended adverse economic and social consequences on fishery participants. The second alternative would require all shrimp permit holders to provide economic data each year. In effect, this alternative would require a census rather than a sample of permit holders to provide the necessary economic data. A census of permit holders is not required to provide statistically accurate and reliable estimates of important economic variables for the fishery and thus would constitute an unnecessarily onerous time burden on fishery participants.

Copies of the RIR and IRFA are available from NMFS (see ADDRESSES).

Notwithstanding any other provision of law, no person is required to respond to, nor shall a person be subject to a penalty for failure to comply with, a collection of information subject to the requirements of the Paperwork Reduction Act (PRA) unless that collection of information displays a currently valid Office of Management and Budget (OMB) control number.

This proposed rule contains a collection-of-information requirement subject to the PRA applicable to vessels in the South Atlantic shrimp fishery. The proposed rule would require owners or operators of South Atlantic shrimp vessels, who are selected by NMFS, to complete and submit an annual survey form that provides basic economic data including, but not limited to vessel and gear information, effort, amount of shrimp caught by species, areas fished, variable and fixed costs, and person to whom shrimp are sold. This requirement has been submitted to OMB for approval. The public reporting burdens for this collection of information is estimated to average 45 minutes per response. This estimate of the public reporting burden includes the time for reviewing instructions, searching existing data sources, gathering and maintaining the data needed, and completing and reviewing the collections of information.

Public comment is sought regarding: whether this proposed collection of information is necessary for the proper performance of the functions of the agency, including whether the information will have practical utility; the accuracy of the burden estimate; ways to enhance the quality, utility, and clarity of the information to be collected; and ways to minimize the burden of the collection of information, including through the use of automated collection techniques or other forms of information technology. Send comments regarding the burden estimate or any other aspect of the collection-of-information requirement, including suggestions for reducing the burden, to NMFS and to OMB (see ADDRESSES).

List of Subjects in 50 CFR Part 622

Fisheries, Fishing, Puerto Rico, Reporting and recordkeeping requirements, Virgin Islands.

Dated: June 18, 2009.
Samuel D. Rauch III,
Deputy Assistant Adminstrator for Regulatory Programs, National Marine Fisheries Service.

For the reasons set out in the preamble, 50 CFR part 622 is proposed to be amended as follows:

PART 622—FISHERIES OF THE CARIBBEAN, GULF, AND SOUTH ATLANTIC

1. The authority citation for part 622 continues to read as follows:

Authority: 16 U.S.C. 1801 et seq.

2. In § 622.4, in the first sentence of paragraph (g)(1), the words “commercial vessel permit for South Atlantic rock shrimp” are removed and the words “Commercial Vessel Permit for Rock Shrimp (South Atlantic EEZ)” are added in their place, and paragraph (a)(2)(viii) is revised to read as follows:

§ 622.4 Permits and fees.

(a) * * *

(2) * * *

(viii) South Atlantic rock shrimp. (A) Until the 27th day of the second month after the effective date of the final rule implementing Amendment 7 to the Fishery Management Plan for the Shrimp Fishery of the South Atlantic Region (Amendment 7), the permit requirements specified in paragraphs (a)(2)(viii)(A)(1) and (2) of this section apply.

(1) For a person aboard a vessel to fish for rock shrimp in the South Atlantic EEZ or possess rock shrimp in or from the South Atlantic EEZ, a commercial vessel permit for rock shrimp must be issued to the vessel and must be on board. (See paragraph (a)(5) of this section for the requirements for operator permits for the South Atlantic rock shrimp fishery.)

(2) In addition, for a person aboard a vessel to fish for rock shrimp in the South Atlantic EEZ off Georgia or off Florida or possess rock shrimp in or from the South Atlantic EEZ off Georgia or off Florida, a limited access endorsement for South Atlantic rock shrimp must be issued to the vessel and must be on board. See § 622.19 for limitations on the issuance, transfer, renewal, and reissuance of a limited access endorsement for South Atlantic rock shrimp.

(B) During the second month following the effective date of the final rule to implement Amendment 7, and prior to the 26th day of the second month after that effective date, a currently valid (not expired) commercial vessel permit for rock shrimp with an expiration date greater than the 27th day of the second month after that effective date that does not have a limited access endorsement for South Atlantic rock shrimp will be replaced by the RA with a Commercial Vessel Permit for Rock Shrimp (Carolinas Zone), and a currently valid (not expired) commercial vessel permit for rock shrimp with an expiration date greater than the 27th day of the second month after that effective date that has a limited access endorsement for South Atlantic rock shrimp will be replaced by the RA with a Commercial Vessel Permit for Rock Shrimp (South Atlantic EEZ). However, a person with an expired limited access endorsement for South Atlantic rock shrimp who desires a Commercial Vessel Permit for Rock Shrimp (South Atlantic EEZ) must apply for such a permit before the date 1 year after the expiration date of the expired limited access endorsement for South Atlantic rock shrimp.

(C) On and after the 27th day of the second month after the effective date of the final rule implementing Amendment 7, the permit requirements specified in paragraphs (a)(2)(viii)(C)(1) and (2) of this section apply.

(1) For a person aboard a vessel to fish for rock shrimp in the South Atlantic EEZ off North Carolina or off South Carolina or possess rock shrimp in or from the South Atlantic EEZ off those states, a Commercial Vessel Permit for Rock Shrimp (Carolinas Zone) or a Commercial Vessel Permit for Rock Shrimp (South Atlantic EEZ) must be issued to the vessel and must be on board.

(2) For a person aboard a vessel to fish for rock shrimp in the South Atlantic EEZ off Georgia or off Florida or possess rock shrimp in or from the South Atlantic EEZ off those states, a Commercial Vessel Permit for Rock Shrimp (South Atlantic EEZ) must be issued to the vessel and must be on board. A Commercial Vessel Permit for Rock Shrimp (South Atlantic EEZ) is a limited access permit. See § 622.19(b) for limitations on the issuance, transfer or renewal of a Commercial Vessel Permit for Rock Shrimp (South Atlantic EEZ).

(D) The provisions of paragraph (f) of this section notwithstanding, neither a commercial vessel permit for rock shrimp nor a limited access endorsement for South Atlantic rock shrimp remains valid on or after the 27th day of the second month after the effective date of the final rule to implement this measure.

3. In § 622.5, paragraph (a)(1)(vii) is revised to read as follows:

§ 622.5 Recordkeeping and reporting.

(a) * * *

(1) * * *

(vii) South Atlantic shrimp. The owner or operator of a vessel that fishes for shrimp in the South Atlantic EEZ or in adjoining state waters, or that lands shrimp in an adjoining state, must provide information for any fishing trip, as requested by the SRD, including, but not limited to, vessel identification, gear, effort, amount of shrimp caught by species, shrimp condition (heads on/heads off), fishing areas and depths, and person to whom sold.

4. In § 622.9, the first sentence of paragraph (a)(1) is revised to read as follows:

§ 622.9 Vessel monitoring systems (VMSs).

(a) Requirements for use of a VMS—(1) South Atlantic rock shrimp. An owner or operator of a vessel that has been issued a limited access endorsement for South Atlantic rock shrimp or a Commercial Vessel Permit for Rock Shrimp (South Atlantic EEZ) must ensure that such vessel has an operating VMS approved by NMFS for use in the South Atlantic rock shrimp fishery on board when on a trip in the South Atlantic. * * *

5. Section 622.19 is revised to read as follows:

§ 622.19 South Atlantic rock shrimp limited access off Georgia and Florida.

(a) Initial applicability—(1) The measures in paragraph (a) of this section are applicable on the effective date of the final rule to implement Amendment 7 through the 26th day of the second month after that effective date.

(2) For a person aboard a vessel to fish for rock shrimp in the South Atlantic EEZ off Georgia or off Florida or possess rock shrimp in or from the South Atlantic EEZ off Georgia or off Florida, a limited access endorsement for South Atlantic rock shrimp must be issued to the vessel and must be on board.

(3) A limited access endorsement for South Atlantic rock shrimp is valid only for the vessel and owner named on the permit/endorsement. To change either the vessel or the owner, a complete application for transfer must be submitted to the RA. An owner of a vessel with an endorsement may request that the RA transfer the endorsement to another vessel owned by the same entity, to the same vessel owned by another entity, or to another vessel with another owner. A transfer of an endorsement under this paragraph will include the transfer of the vessel's entire catch history of South Atlantic rock shrimp to a new owner; no partial transfers are allowed. No transfer of a limited access endorsement for South Atlantic rock shrimp will be allowed after the date 30 days after the effective date of the final rule implementing Amendment 7.

(4) The RA will not reissue a limited access endorsement for South Atlantic rock shrimp if the endorsement is revoked or if the RA does not receive a complete application for renewal of the endorsement within 1 year after the endorsement's expiration date.

(b) Subsequent applicability—(1) The measures in paragraph (b) of this section are applicable on and after the 27th day of the second month after the effective date of the final rule that implements Amendment 7.

(2) For a person aboard a vessel to fish for rock shrimp in the South Atlantic EEZ off Georgia or off Florida or possess rock shrimp in or from the South Atlantic EEZ off those states, a Commercial Permit for Rock Shrimp (South Atlantic EEZ) must be issued to the vessel and must be on board.

(3) Applications. No applications for additional Commercial Vessel Permits for Rock Shrimp (South Atlantic EEZ) will be accepted, except as follows:

(i) Failure to renew. An owner of a vessel may apply for a Commercial Vessel Permit for Rock Shrimp (South Atlantic EEZ) and such permit will be issued provided the owner,

(A) Had a limited access endorsement for South Atlantic rock shrimp;

(B) Failed to request renewal of his or her endorsement within 1 year after the endorsement's expiration date; and

(C) Renewed his or her commercial vessel permit for rock shrimp within 1 year after its expiration date.

(ii) Inactive endorsement. An owner of a vessel may apply for a Commercial Vessel Permit for Rock Shrimp (South Atlantic EEZ) and such permit will be issued provided the owner,

(A) Has a commercial vessel permit for rock shrimp;

(B) Had a limited access endorsement for South Atlantic rock shrimp and;

(C) Was unable to renew the endorsement because the endorsement was “inactive” for a period of 4 consecutive calendar years. “Inactive” means that the vessel with the endorsement did not land at least 15,000 lb (6,804 kg) of rock shrimp from the South Atlantic EEZ in a calendar year.

(iii) Application period. Applications under paragraph (b)(3) of this section will only be accepted from the 27th day of the second month after the effective date of the final rule that implements Amendment 7 through the date 1 year after that date.

(iv) Continuity of ownership. An applicant who believes he or she meets the permit eligibility criteria based on ownership of a vessel under a different name, as may have occurred when ownership has changed from individual to corporate or vice versa, must document his or her continuity of ownership.

(c) Transfer of an existing permit. A Commercial Vessel Permit for Rock Shrimp (South Atlantic EEZ) is valid only for the vessel and owner named on the permit. To change either the vessel or the owner, a complete application for transfer must be submitted to the RA. An owner of a vessel with a permit may request that the RA transfer a valid permit to another vessel owned by the same entity, to the same vessel owned by another entity, or to another vessel with another owner. A transfer of a permit under this paragraph will include the transfer of the vessel's entire catch history of South Atlantic rock shrimp to a new owner; no partial transfers are allowed.

(d) Renewal. The RA will not reissue a Commercial Vessel Permit for Rock Shrimp (South Atlantic EEZ) if the permit is revoked or if the RA does not receive a complete application for renewal of the permit within 1 year after the expiration date of the permit.

(e) Limitation on permits. A vessel for which a permit for South Atlantic rock shrimp is required may be issued either a Commercial Vessel Permit for Rock Shrimp (Carolinas Zone) or a Commercial Vessel Permit for Rock Shrimp (South Atlantic EEZ), depending on its eligibility. However, no such vessel may be issued both permits for the same period of effectiveness.

[FR Doc. E9-14880 Filed 6-23-09; 8:45 am]

BILLING CODE 3510-22-S